DEPARTMENT OF ENERGY

Federal Energy Regulatory Commission

[Docket No. ER01-1839-000, et al.]

Dominion Nuclear Marketing II, Inc., et al.; Electric Rate and Corporate Regulation Filings

April 27, 2001.

Take notice that the following filings have been made with the Commission:

1. Dominion Nuclear Marketing II, Inc.

[Docket No. ER01-1839-000]

Take notice that on April 24, 2001, Dominion Nuclear Marketing II, Inc. (DNM II) tendered for filing a service agreement providing for sales of power to Virginia Electric and Power Company (Dominion Virginia Power) under DNM II's market-based rate tariff, FERC Electric Tariff, Original Volume No. 1 (the Tariff). DNM II requests that the Commission act on this filing on an expedited basis and make the service agreement effective on the date of the Commission order accepting the service agreement.

Copies of the filing were served upon Dominion Virginia Power, the Virginia State Corporation Commission and the North Carolina Utilities Commission.

Comment date: May 15, 2001, in accordance with Standard Paragraph E at the end of this notice.

2. NorthWestern Public Service Company

[Docket No. ER01-1651-001]

Take notice that on April 24, 2001, NorthWestern Public Service Company (NorthWestern) tendered for filing certain information intended to supplement the filing of certain service agreements submitted March 29, 2001 in Docket No. ER01-1651-000. Copies of this filing were served on the transmission customers under the service agreements.

Comment date: May 15, 2001, in accordance with Standard Paragraph E at the end of this notice.

3. New England Power Company

[Docket No. ER01-817-002]

Take notice that on April 24, 2001, New England Power Company (NEP) tendered for filing non-substantive changes to the cover pages for the service agreements filed on March 27, 2001 in the above-referenced docket, in order to comply with the requirements of the Commission's Order No. 614.

NEP states that a copy of this filing has been served upon each of the parties that was served by NEP in Docket No. ER01-817-000.

Comment date: May 15, 2001, in accordance with Standard Paragraph E at the end of this notice.

4. New England Power Company

[Docket No. ER01-820-002]

Take notice that on April 24, 2001, New England Power Company (NEP) tendered for filing non-substantive changes to the cover pages for the service agreements filed on March 27, 2001 in the above-referenced docket, in order to comply with the requirements of the Commission's Order No. 614.

NEP states that a copy of this filing has been served upon each of the parties that was served by NEP in Docket No. ER01-820-000.

Comment date: May 15, 2001, in accordance with Standard Paragraph E at the end of this notice.

5. Carolina Power & Light Company

[Docket No. ER01-1853-000]

Take notice that on April 24, 2001, Carolina Power & Light Company (CP&L) tendered for filing an executed Facility Interconnection and Operating Agreement (Interconnection Agreement) with Lumberton Power, LLC (Lumberton). The Interconnection Agreement sets forth the terms and conditions under which CP&L will provide interconnection service for a 35 MW electric generating facility owned by Lumberton.

CP&L requests waiver of the Commission's notice requirements in order for the Interconnection Agreement to become effective on April 24, 2001.

Copies of the filing were served upon Lumberton and the North Carolina Public Utilities Commission.

Comment date: May 15, 2001, in accordance with Standard Paragraph E at the end of this notice.

6. FPL Energy Maine Holdings, LLC and Boralex Industries Inc.

[Docket No. ER01-1854-000]

Take notice that on April 24, 2001, FPL Energy Maine Holdings, LLC and Boralex Industries Inc., jointly tendered for filing a notice of succession, notice of change in status and amendments to an existing market-based rate tariff and code of conduct to reflect FPL Energy Maine Holdings, LLC's divestiture, and Boralex Industries Inc.'s acquisition, of AVEC Holdings, LLC, which owns a one hundred percent interest in Aroostook Valley Electric Company, which owns a 31 MW wood-burning power plant in Fort Fairfield, Maine.

Comment date: May 15, 2001, in accordance with Standard Paragraph E at the end of this notice.

7. Commonwealth Edison Company

[Docket No. ER01-1855-000]

Take notice that on April 24, 2001, Commonwealth Edison Company (ComEd) tendered for filing an executed Service Agreement for Network Integration Transmission Service (Service Agreement) between ComEd and the Illinois Municipal Electric Agency (IMEA) and an executed Network Operating Agreement (Operating Agreement) between ComEd and IMEA for service under ComEd's Open Access Transmission Tariff (OATT).

ComEd requests that the Commission substitute the Service Agreement and associated Operating Agreement for the unexecuted agreements with IMEA that were previously filed with and accepted by the Commission in Docket No. ER01-1356-000.

Copies of the filing were served on IMEA and the Illinois Commerce Commission.

Comment date: May 15, 2001, in accordance with Standard Paragraph E at the end of this notice.

8. Allegheny Energy Service Corporation on behalf of Allegheny Energy Supply Company, LLC

[Docket No. ER01-1856-000]

Take notice that on April 24, 2001, Allegheny Energy Service Corporation on behalf of Allegheny Energy Supply Company, LLC (Allegheny Energy Supply Company) tendered for filing First Revised Service Agreement No. 23 to complete the filing requirement for one (1) new Customer of the Market Rate Tariff under which Allegheny Energy Supply offers generation services. First Revised Service Agreement No. 23 supersedes Service Agreement No. 23 and its Supplement No. 1 and will maintain the effective date of November 24, 1999, in accordance with the Commission's Order at Docket No. ER00-863-000.

Copies of the filing have been provided to the Public Utilities Commission of Ohio, the Pennsylvania Public Utility Commission, the Maryland Public Service Commission, the Virginia State Corporation Commission, the West Virginia Public Service Commission, and all parties of record.

Comment date: May 15, 2001, in accordance with Standard Paragraph E at the end of this notice.

9. Heard County Power, L.L.C.

[Docket No. ER01-1857-000]

Take notice that on April 24, 2001, Heard County Power, L.L.C. (Heard County Power) tendered for filing a service agreement (Power Purchase and Sales Agreement) covering transactions between Heard County Power and Dynegy Power Marketing, Inc. under Heard County Power's market-based rate schedule, to be in effect as of April 1, 2001.

Comment date: May 15, 2001, in accordance with Standard Paragraph E at the end of this notice.

10. Riverside Generating Company, L.L.C.

[Docket No. ER01-1858-000]

Take notice that on April 24, 2001, Riverside Generating Company, L.L.C. (Riverside) tendered for filing a service agreement (Power Purchase and Sales Agreement) covering transactions between Riverside and Dynegy Power Marketing, Inc. under Riverside's market-based rate schedule, to be in effect as of April 1, 2001.

Comment date: May 15, 2001, in accordance with Standard Paragraph E at the end of this notice.

11. Carolina Power & Light Company

[Docket No. ER01-1859-000]

Take notice that on April 24, 2001, Carolina Power & Light Company (CP&L) tendered for filing an executed Facility Interconnection and Operating Agreement (Interconnection Agreement) with Elizabethtown Power, LLC (Elizabethtown). The Interconnection Agreement sets forth the terms and conditions under which CP&L will provide interconnection service for a 35 MW electric generating facility owned by Elizabethtown. CP&L requests waiver of the Commission's notice requirements in order for the Interconnection Agreement to become effective on April 24, 2001.

Copies of the filing were served upon Elizabethtown and the North Carolina Public Utilities Commission.

Comment date: May 15, 2001, in accordance with Standard Paragraph E at the end of this notice.

12. Cobb Electric Membership Corp.

[Docket No. ER01-1860-000]

Take notice that on April 24, 2001, Cobb Electric Membership Corp. (Cobb), a non-profit electric distribution cooperative located in Marietta, Georgia, tendered for filing a petition for authority to sell power at market-based rates, acceptance of its proposed rate schedule, granting of and certain waivers. Cobb requests an effective date for its proposed rate schedule that would be 60 days from the date of the filing of its petition or the date of the order accepting Cobb's rate schedule for filing, whichever is earlier.

Comment date: May 15, 2001, in accordance with Standard Paragraph E at the end of this notice.

13. Southern California Edison Company

[Docket No. ER01-1861-000]

Take notice, that on April 24, 2001, Southern California Edison Company (SCE) tendered for filing the Amended and Restated SCE-CDWR Capacity Exchange Agreement (Agreement) between SCE and the State of California Department of Water Resources (CDWR), which provides for the terms to redefine the Exchange Ratio in Section 6.1.1 of the Agreement.

SCE requests the Agreement be made effective on the date on which FERC accepts the Agreement for filing; provided that, if FERC enters into a hearing to determine whether the Agreement is just and reasonable, the Agreement shall not become effective until the date when an order no longer subject to judicial review has been issued by FERC determining the Agreement to be just and reasonable without changes or modifications unacceptable to either Party.

Copies of this filing were served upon the Public Utilities Commission of the State of California and CDWR.

Comment date: May 15, 2001, in accordance with Standard Paragraph E at the end of this notice.

14. Southern California Edison Company

[Docket No. ER01-1862-000]

Take notice that on April 24, 2001, Southern California Edison Company (SCE) tendered for filing the Mountain View II Project Interconnection Facilities Agreement (Agreement) between SCE and Mountain View Power Partners II LLC.

SCE requests that the Agreement become effective on April 25, 2001.

Copies of this filing were served upon the Public Utilities Commission of the State of California, Mountain View Power Partners II, LLC, and Mountain View Power Partners 1, LLC.

Comment date: May 15, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-11197 Filed 5-3-01; 8:45 am]

BILLING CODE 6717-01-P